DEPARTMENT OF HEALTH AND HUMAN SERVICES

National Institutes of Health

Office of Loan Repayment and Scholarship; Proposed Collection; Comment Request; Career Survey of Biomedical Researchers Receiving Loan Repayment Benefits

SUMMARY: In compliance with the requirements of section 3506(c)(2)(A) of the Paperwork Reduction Act of 1995, for opportunity for public comment on proposed data collection projects, the Office of Loan Repayment and Scholarship (OLRS), National Institutes of Health (NIH), will publish periodic summaries of proposed projects to be submitted to the Office of Management and Budget (OMB) for review and approval.

Proposed Collection: Title: Career Survey of Biomedical Researchers Receiving Loan Repayment Benefits. Need and Use of Information Collection: This survey is part of a comprehensive evaluation of the National Institutes of Health (NIH) Intramural Research Loan Repayment Program (LRP), the purpose of which is to evaluate the success of the LRP in raising the probability that a qualified scientist will stay in the intramural research program and pursue a long-term career as a biomedical researcher. The survey will document the actual career outcomes of current and former LRP participants and comparable non-participants. Such information can be used to gauge whether the program is meeting the expectations of program managers and how the program could be improved in the future. It will be used to address the outcome and impact study questions related to short and long term retention, both at NIH and in biomedical research generally.

In addition to informing OLRS about the effectiveness of the program, the results of the LRP evaluation will become the basis for recommendations on how the program could be modified to improve outcomes. Indeed, some of the findings may be useful to the Office of the Director in terms of scientific human resources policy in particular and the Intramural Research Program generally. Also, the information collection will help our nation's leaders in setting policies to ensure a human resources infrastructure for biomedical research. Encouraging the nation's brightest minds to pursue careers in biomedical research, both in public laboratories such as NIH and in non-profit laboratories, is critical to this effort. Frequency of Response: One time data collection. Affected Public: Individuals. Type of Respondents: Current and former NIH biomedical researchers. The annualized cost to respondents is estimated at $10,250. There are no Capital Costs, Operating Costs and/or Maintenance Costs to report.

Estimates of Annualized Burden
Type of respondent | Estimated number of respondents | Estimated number of responses per respondent | Average burden hours per response | Estimated total annual burden hours requested
LRP Program Participant | 300 | 1 | .33 | 100
Comparison Group | 450 | 1 | .33 | 150
Total | 750 | 1 | .33 | 250

Requests for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Marc S. Horowitz, J.D., Director, Office of Loan Repayment and Scholarship, National Institutes of Health, 6006 Executive Boulevard, Room 303, Bethesda, Maryland 20892-7060 or call non-toll-free (301) 402-5666 or e-mail your request, including your address, to <lrp@nih.gov>.

COMMENTS DUE DATE: Comments regarding this information collection are best assured of having their full effect if received on or before September 16, 2002.

Dated: July 9, 2002.
Ruth L. Kirschstein,
Deputy Director, NIH.

[FR Doc. 02-17931 Filed 7-16-02; 8:45 am]

BILLING CODE 4140-01-P